DEPARTMENT OF ENERGY

Office of Energy Efficiency and Renewable Energy

[Case No. RF-006]

Energy Conservation Program for Consumer Products: Publication of the Petition for Waiver of Liebherr Hausgeräte From the DOE Refrigerator and Refrigerator-Freezer Test Procedure

AGENCY: Office of Energy Efficiency and Renewable Energy, Department of Energy.

ACTION: Notice of petition for waiver and solicitation of comments.

SUMMARY: Today's notice publishes a petition for waiver for Liebherr Hausgeräte (Liebherr). The Liebherr petition requests a waiver to modify the refrigerator test procedure for the Liebherr line of combination wine storage-freezer products. The Department of Energy (DOE or Department) is soliciting comments, data, and information respecting the petition for waiver.

DATES: The Department will accept comments, data, and information not later than February 13, 2006.

ADDRESSES: DOE will accept comments on this petition, identified by case number RF-006, and submitted by any of the following methods:

• Mail: Ms. Brenda Edwards-Jones, U.S. Department of Energy, Building Technologies Program, Mailstop EE-2J, 1000 Independence Avenue, SW., Washington, DC, 20585-0121.

• Telephone: (202) 586-2945. Please submit one signed paper original.

• Hand Delivery/Courier: Ms. Brenda Edwards-Jones, U.S. Department of Energy, Building Technologies Program, Room 1J-018, 1000 Independence Avenue, SW., Washington, DC 20585.

Docket: For access to the docket to read copies of public comments received, this notice, and the petition for waiver, go to the U.S. Department of Energy, Forrestal Building, Room 1J-018 (Resource Room of the Building Technologies Program), 1000 Independence Avenue, SW., Washington, DC, (202) 586-9127, between 9 a.m. and 4 p.m., Monday through Friday, except Federal holidays. Please call Ms. Brenda Edwards-Jones at the above telephone number for additional information regarding visiting the Resource Room. Please note: The Department's Freedom of Information Reading Room (formerly Room 1E-190 at the Forrestal Building) is no longer housing rulemaking materials.

FOR FURTHER INFORMATION CONTACT: Dr. Michael G. Raymond, U.S. Department of Energy, Building Technologies Program, Mail Stop EE-2J, Forrestal Building, 1000 Independence Avenue, SW., Washington, DC 20585-0121, (202) 586-9611; e-mail: Michael.Raymond@ee.doe.gov; or Francine Pinto, Esq., or Thomas DePriest, Esq., U.S. Department of Energy, Office of General Counsel, Mail Stop GC-72, Forrestal Building, 1000 Independence Avenue, SW., Washington, DC 20585-0103, (202) 586-9507; e-mail: Francine.Pinto@hq.doe.gov, or Thomas.DePriest@hq.doe.gov.

SUPPLEMENTARY INFORMATION: Title III of the Energy Policy and Conservation Act (EPCA) sets forth a variety of provisions concerning energy efficiency. Part B of Title III (42 U.S.C. 6291-6309) provides for the “Energy Conservation Program For Consumer Products Other Than Automobiles” which requires, among other things, that DOE prescribe standardized test procedures to measure the energy consumption of certain consumer products, including refrigerators and refrigerator-freezers. The relevant DOE test procedure for purposes of today's decision and order is “Uniform Test Method for Measuring the Energy Consumption of Electric Refrigerators and Electric Refrigerator-freezers” (current test procedure). The current test procedure is set forth in 10 CFR part 430, subpart B, Appendix A1. It prescribes a method for characterizing the energy requirements of all types of refrigerators and refrigerator-freezers and yields model-specific energy efficiency information that can aid consumers in their purchasing decisions.

The Department's regulations contain provisions allowing a person to seek a waiver from the test procedure requirements for covered consumer products. These provisions are set forth in 10 CFR 430.27. The waiver provisions allow the Assistant Secretary for Energy Efficiency and Renewable Energy (Assistant Secretary) to waive temporarily the test procedure for a particular basic model when a petitioner shows that the basic model contains one or more design characteristics that prevent testing according to the prescribed test procedures, or when the prescribed test procedures may evaluate the basic model in a manner so unrepresentative of its true energy consumption as to provide materially inaccurate comparative data. (10 CFR 430.27(a)(l)) Waivers generally remain in effect until final test procedure amendments become effective, thereby resolving the problem that is the subject of the waiver. (10 CFR 430.27(m))

On July 5, 2005, Liebherr filed a petition for waiver regarding the DOE refrigerator and refrigerator-freezer test procedures. Liebherr's petition seeks a waiver from the DOE test procedure because, Liebherr asserts, its line of combination wine storage-freezers are not accurately categorized by any of the current DOE classes. Liebherr has submitted a modified test procedure to be used for rating its combination wine storage-freezers. Liebherr proposes to calculate the energy consumption of these products by using the current test procedure outlined in 10 CFR Part 430, Subpart B, Appendix A1 for refrigerator/freezers with the following exception. The current methodology outlined in Appendix A1 states that the unit's energy consumption is to be based on either the freezer compartment temperature or the refrigerator compartment temperature. However, the units produced by Liebherr do not include a refrigerator compartment, but do include a section solely dedicated for the purpose of wine storage, which is not convertible so that it may be used for any other purpose; therefore, Liebherr asserts, it is inappropriate to measure the energy consumption of these units in accordance with the refrigerator-freezer test procedure. Liebherr proposes to combine portions of the refrigerator-freezer test procedure with portions of the AHAM household wine chiller energy test procedure.

The Department is publishing Liebherr's petition for waiver in its entirety. The petition contains no confidential information. The Department solicits comments, data, and information with respect to the petition. Any person submitting written comments must also send a copy of such comments to the petitioner. 10 CFR 430.27(b)(1)(iv).

Issued in Washington, DC, on January 6, 2006.
Douglas L. Faulkner,
Acting Assistant Secretary, Energy Efficiency and Renewable Energy.

July 5th, 2005

Mr. Michael G. Raymond, U.S. Department of Energy, Office of Energy Efficiency and Renewable Energy, Mail Station EE-41, Forrestal Building, 1000 Independence Avenue, SW., Washington DC 20585-0121.

Petition by Liebherr Hausgeräte for a Waiver. Energy Conservation Standards in 10 CFR Part 430, for the Liebherr Wine/freezer Models “WF 1051” and “WFI 1051”

1. Description of Applicant

Liebherr Hausgeräte is part of the Liebherr Group, an international group with a workforce of over 21,000 employees and more than 80 companies worldwide, including the United States of America. Further information can be found at http://www.liebherr.com.

Liebherr Hausgeräte has specialized in the manufacture of high quality refrigerators, freezers and wine storage appliances. It is headquartered in Ochsenhausen, Germany. The marketing of Liebherr products in the U.S. started in the 2nd quarter of 2004. Right now, Liebherr Hausgerte is only manufacturing under the Liebherr brand name for products sold in the United States.

2. Background and General Information

Liebherr is requesting relief for a product which consists of a combination of a wine storage compartment on top and freezer compartment on the bottom, Liebherr models WF 1051 and WFI 1051.

Liebherr understands that DOE is not willing to prevent manufacturers of coming to the market with new innovative products which will enhance consumers well being and satisfaction. The market for wine storage has been growing substantially over the last years and is expected to continue growing in the future.

Currently, there is not a current DOE standards for a wine/freezer combination, thus the current evaluation standards would not measure the energy consumption in a representative manner.

3. Petition for a Waiver

On behalf of Liebherr-Hausgeräte GmbH, P.O. Box 1161, 88411 Ochsenhausen, Germany, I wish to submit a petition for a waiver with respect to the Department of Energy, energy efficiency standards under 10 CFR 430.27.

The appliances WF 1051 and WFI 1051 are a combination of a wine storage compartment and a freezer compartment in the bottom. The wine compartment can reach 45° F, which is the ideal drinking temperature for some white wines. But the unit goes as high as 64° F so that we can bring red wines to ideal drinking temperature as well. The wine connoisseurs recommend an average of 55-57° F for long term storage of any kind of wine.

Both models feature wooden wine racks which are not suitable for the storage of fresh food. We also do not offer any optional glass shelves or plastic racks to replace them. So the wine compartment could not be used as a regular refrigerator.

The models WF 1051 and WFI 1051 do not fit into the current standards. To evaluate the models in a representative manner of its true energy consumption characteristics the standard temperature of single wine coolers (55° F) for the wine storage compartment and the standard temperature (5° F) for the freezer compartment should be used. Therefore, the energy consumption is defined by the higher of the two values calculated by the following two formulas (according to 10 CFR part 430, subpart B, Appendix A1):

—Energy consumption of the wine compartment:

EWine = ET1 + [(ET2-ET1) x (55° F-TW1) / (TW2-TW1)]

—Energy consumption of the freezer:

EFreezer = ET1 + [(ET2-ET1) x (5° F-TF1) / (TF2-TF1)].

The total adjusted volume of the models WF 1051 and WFI 1051 is 11.14 ft ³. Using the standard temperature of 55° F for the wine compartment the annual energy use of the models WF 1051 and WFI 1051 is 475 kWh/a. According to current DOE standards, these models are classified as refrigerator-freezer with automatic defrost with bottom-mounted freezer without through-the-door ice service.

Respectfully submitted,

Marc Perez, Liebherr-Canada Ltd., 1015 Sutton Drive, Burlington ON L7L 5Z8, Canada.

[FR Doc. E6-374 Filed 1-12-06; 8:45 am]

BILLING CODE 6450-01-P